DEPARTMENT OF DEFENSE

Office of the Secretary

[Transmittal No. 25-76]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-76, Policy Justification, and Sensitivity of Technology.

Dated: January 29, 2026.
Stephanie J. Bost,
Alternate OSD Federal Register Liaison Officer, Department of Defense.

BILLING CODE 6001-FR-P

BILLING CODE 6001-FR-C

Transmittal No. 25-76

Notice of Proposed Issuance of Letter of Offer Pursuant to Section 36(b)(1) of the Arms Export Control Act, as Amended

(i) Prospective Purchaser: Government of Canada

(ii) Total Case Estimated Value:

Major Defense Equipment * | $1.58 billion
Other | $ 170 million
TOTAL | $1.75 billion

(iii) Description and Quantity or Quantities of Articles or Services under Consideration for Purchase:

Major Defense Equipment (MDE):

Twenty-six (26) M142 High Mobility Artillery Rocket Systems (HIMARS)

One hundred thirty-two (132) M31A2 Guided Multiple Launch Rocket System (GMLRS) Unitary pods with Insensitive Munitions Propulsion System (IMPS)

One hundred thirty-two (132) M30A2 GMLRS Alternative Warhead (AW) pods with IMPS

Thirty-two (32) M403 Extended Range (ER) GMLRS AW pods with IMPS

Thirty-two (32) M404 ER GMLRS Unitary pods with IMPS

Sixty-four (64) M57 Army Tactical Missile System (ATACMS) pods

Non-Major Defense Equipment:

The following non-MDE items will also be included: Low Cost Reduced Range Practice Rocket pods; interactive electronic technical manuals; integration support services; spare parts; tool kits; test equipment; contractor logistics support; training; training equipment; technical assistance; technical publications; transportation; Type 1 radios (AN/PRC-160 and AN/PRC-167); 7800I intercom equipment; Simple Key Loaders (SKL); United States (U.S.) Government and contractor technical, engineering, and logistics personnel services; and other related elements of logistics and program support.

(iv) Military Department: Army (CN-B-VBV)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: October 1, 2025

* as defined in Section 47(6) of the Arms Export Control Act.

POLICY JUSTIFICATION

Canada—M142 High Mobility Artillery Rocket Systems

The Government of Canada has requested to buy twenty-six (26) M142 High Mobility Artillery Rocket Systems (HIMARS); one hundred thirty-two (132) M31A2 Guided Multiple Launch Rocket System (GMLRS) Unitary pods with Insensitive Munitions Propulsion System (IMPS); one hundred thirty-two (132) M30A2 GMLRS Alternative Warhead (AW) pods with IMPS; thirty-two (32) M403 Extended Range (ER) GMLRS AW pods with IMPS; thirty-two (32) M404 ER GMLRS Unitary pods with IMPS; and sixty-four (64) M57 Army Tactical Missile System (ATACMS) pods. The following non-MDE items will be included: Low Cost Reduced Range Practice Rocket pods; interactive electronic technical manuals; integration support services; spare parts; tool kits; test equipment; contractor logistics support; training; training equipment; technical assistance; technical publications; transportation; Type 1 radios (AN/PRC-160 and AN/PRC-167); 7800I intercom equipment; Simple Key Loaders (SKL); U.S. Government and contractor technical, engineering, and logistics personnel services; and other related elements of logistics and program support. The estimated total cost is $1.75 billion.

This proposed sale will support the foreign policy and national security objectives of the U.S. by helping to improve the military capability of Canada, a North Atlantic Treaty Organization (NATO) Ally that is an important force for ensuring political stability and economic progress and is a contributor to military, peacekeeping, and humanitarian operations around the world.

The proposed sale will improve Canada's ability to meet current and future threats by providing the M142 HIMARS long range precision strike system and munitions. This capability will protect Canada by improving Canada's contribution to collective hemispheric defense and to defense and deterrence in Europe, as directed by NATO's defense plans. Canada will have no difficulty absorbing these articles and services into its armed forces.

The proposed sale of this equipment and support will not alter the basic military balance in the region.

The principal contractor will be Lockheed Martin, located in Grand Prairie, TX. At this time, the U.S. Government is not aware of any offset agreement proposed in connection with this potential sale. Any offset agreement will be defined in negotiations between the purchaser and the contractor.

Implementation of this proposed sale will require multiple trips to Canada involving up to twenty U.S. Government and up to fifteen contractor representatives for program management reviews to support the program. Travel is expected to occur approximately twice per year as needed to support equipment fielding and training.

There will be no adverse impact on U.S. defense readiness as a result of this proposed sale.

Transmittal No. 25-76

Notice of Proposed Issuance of Letter of Offer Pursuant to Section 36(b)(1) of the Arms Export Control Act

Annex

Item No. vii

(vii) Sensitivity of Technology:

1. The M142 High Mobility Artillery Rocket System (HIMARS) is a C-130 transportable wheeled launcher mounted on a 5-ton Family of Medium Tactical Vehicles truck chassis. HIMARS is the modern Army-fielded version of the Multiple Launch Rocket System (MLRS) M270 launcher and can fire all the MLRS Family of Munitions (FOM), including the Guided Multiple Launch Rocket System (GMLRS) and Army Tactical Missile System (ATACMS). Utilizing the MLRS FOM, the HIMARS can engage targets between 15 and 300 kilometers with GPS-aided precision accuracy.

2. The GMLRS M31A2 Unitary (GMLRS-U) is the Army's primary munition for units fielding the M142 HIMARS and M270A1 MLRS launchers. The M31 Unitary is a solid propellant artillery rocket that uses Global Positioning System/Precise Positioning Service (GPS/PPS) aided inertial guidance provided by Selective Availability Anti-Spoofing Module (SAASM) or M-Code. It accurately and quickly delivers a single high-explosive blast fragmentation warhead to targets at ranges from 15-70 kilometers. The rockets are fired from a launch pod container that also serves as the storage and transportation container for the rockets. Each rocket pod holds six rockets.

3. The M30A2 GMLRS Alternative Warhead (GMLRS-AW) shares a greater than 90% commonality with the M31A1 Unitary. The GMLRS-AW replaces the GMLRS-U's high explosive warhead with a 200-pound fragmentation warhead of pre-formed tungsten penetrators to optimize for effectiveness against large area and imprecisely located targets. The munitions otherwise share a common motor, GPS/PPS-aided inertial guidance provided by SAASM or M-Code, control system, fusing mechanism, multi-option height of burst capability, and effective range between 15 and 70 kilometers.

4. The Extended Range Guided Multiple Launch Rocket System (ER GMLRS) provides a persistent, responsive, all-weather, rapidly deployed, long-range, surface-to-surface, area- and point-precision strike capability. The M403 Alternative Warhead variant carries a 200-pound fragmentation assembly filled with high explosives which are optimized for effectiveness against large area and imprecisely located targets. The M404 Unitary variant is a 200-pound class Unitary with a steel blast fragmentation case designed for low collateral damage against point targets. The ER GMLRS maintains the accuracy and effectiveness demonstrated by the baseline GMLRS out to a maximum range of 150 km (double that of the baseline GMLRS) while also including a new height of burst capability.

5. The M57 Army Tactical Missile System (ATACMS) is a conventional, semi-ballistic missile that utilizes a 500-pound high explosive warhead. It has an effective range of between 70 and 300 kilometers and has increased accuracy over previous versions of the ATACMS due to a GPS/PPS aided navigation system provided by SAASM or M-Code.

6. The AN/PRC-160 is a high frequency tactical radio communications for vehicular and dismounted command and control operations. The final end-items are L3Harris AN/PRC-160 multi-channel manpack radios with a Micro Global Positioning System (GPS) receiver application module (MicroGRAM) receiver card and SAASM.

7. The AN/PRC-167 is a multi-domain, multi-channel, tactical, narrow and wide-band dual transceiver radio system with Type 1 encryption and SAASM GPS location and timing capabilities. The system can provide wide-band high-assurance self-healing networking capabilities and Mobile User Objective System over-the-horizon capabilities. Each transceiver is software programmable and operates in the 30-512 MHz and 764-2600 MHz frequency ranges.

8. The highest level of classification of defense articles, components, and services included in this potential sale is SECRET.

9. If a technologically advanced adversary were to obtain knowledge of the specific hardware and software elements, the information could be used to develop countermeasures that might reduce weapon system effectiveness or be used in the development of a system with similar or advanced capabilities.

10. A determination has been made that Canada can provide substantially the same degree of protection for the sensitive technology being released as the U.S. Government. This proposed sale is necessary in furtherance of the U.S. foreign policy and national security objectives outlined in the Policy Justification.

11. All defense articles and services listed in this transmittal have been authorized for release and export to the Government of Canada.

[FR Doc. 2026-02059 Filed 1-30-26; 8:45 am]

BILLING CODE 6001-FR-P